NATIONAL CREDIT UNION ADMINISTRATION

Agency Information Collection Activities: Submission to OMB for Review; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until April 9, 2007.

ADDRESSES: Interested parties are invited to submit written comments to NCUA Clearance Officer listed below:

Clearance Officer: Mr. Neil McNamara, National Credit Union Administration, 1775 Duke Street, Alexandria, VA 22314-3428, Fax No. 703-837-2861, E-mail: mcnamara@ncua.gov.

OMB Desk Officer: NCUA Desk Officer, Office of Information and Regulatory Affairs, Office of Management and Budget, Docket Library, Room 10102, 725—17th Street, NW., Washington, DC 20503.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-0168.

Form Number: N/A.

Type of Review: Extension of a currently approved collection.

Title: Maximum Borrowing Authority, 12 CFR 741.2.

Description: The collection of information requirement is for those federally insured state-chartered credit unions seeking a waiver from the maximum borrowing limitation of 50% of paid-in and unimpaired capital and surplus.

Respondents: Credit unions.

Estimated No. of Respondents/Record keepers: 2.

Estimated Burden Hours Per Response: 8 hours.

Frequency of Response: Reporting, and on occasion.

Estimated Total Annual Burden Hours: 16 hours.

Estimated Total Annual Cost: $0.00.

By the National Credit Union Administration Board on March 2, 2007.
Mary Rupp,
Secretary of the Board.

[FR Doc. E7-4207 Filed 3-8-07; 8:45 am]

BILLING CODE 7535-01-P